DEPARTMENT OF THE INTERIOR

Fish and Wildlife Service

[FWS-R4-R-2009-N162; 40136-1265-0000-S3]

Lower Florida Keys Refuges, Monroe County, FL

AGENCY: Fish and Wildlife Service, Interior.

ACTION: Notice of availability: final Comprehensive Conservation Plan and finding of no significant impact.

SUMMARY: We, the Fish and Wildlife Service (Service), announce our decision and the availability of the final CCP and finding of no significant impact (FONSI) for the Environmental Assessment for the Lower Florida Keys Refuges in accordance with the National Environmental Policy Act (NEPA) requirements. We completed a thorough analysis of impacts on the human environment, which are included in the Environmental Assessment (Appendix N of the CCP). The CCP will guide us in managing and administering the Lower Florida Keys Refuges for the next 15 years.

ADDRESSES: You may obtain a copy of the CCP by writing to: Ms. Anne Morkill, Refuge Manager, Florida Keys National Wildlife Refuge Complex, 28590 Watson Boulevard, Big Pine Key, FL 33043. You may also access and download the document from the Service's Web site: http://southeast.fws.gov/planning.

FOR FURTHER INFORMATION CONTACT: Ms. Anne Morkill; telephone: 305/872-2239; or Mary Morris, Natural Resource Planner; telephone 850/567-6202.

SUPPLEMENTARY INFORMATION:

Introduction

With this notice, we finalize the CCP process for the Lower Florida Keys Refuges. We started this process through a notice in the Federal Register on May 9, 2003 (68 FR 25058).

The Lower Florida Keys Refuges includes three wildlife refuges—Key West National Wildlife Refuge (Key West NWR), Great White Heron National Wildlife Refuge (Great White Heron NWR), and National Key Deer Refuge in Monroe County, Florida. These are a collection of low-lying, subtropical islands between the Gulf of Mexico and the Atlantic Ocean that protect all the vital habitats representative of the Florida Keys ecosystem, including the globally imperiled pine rockland and tropical hardwood hammock. These geologically and climatically distinct islands provide a haven for a diversity of native flora and fauna, including endemic, threatened, endangered, and candidate species.

Key West NWR

Located west of Key West and accessible only by boat, the refuge consists of the Marquesas Keys and 13 other keys distributed across over 375 square miles of open water. Key West NWR is among the first refuges established in the United States. President Roosevelt created the refuge in 1908 as a preserve and breeding ground for colonial nesting birds and other wildlife. The refuge encompasses 208,308 acres of land and water with only 1 percent (2,019 acres) being land. Most islands are dominated by mangrove plant communities.

The refuge provides habitat and protection for Federally listed species, including piping plovers and roseate terns. The refuge harbors the largest wintering population of piping plovers and the largest colony of white-crowned pigeons in the Florida Keys. It is a haven for over 250 species of birds, including 10 wading-bird species that nest in the refuge. Other notable imperiled species include sea turtles. More loggerhead and green sea turtle nests are found each year in Key West NWR than in any area of the Florida Keys except the Dry Tortugas. Waters within the refuge's administrative boundaries are important developmental habitat for these sea turtle species, as well as hawksbills and Kemp's ridley sea turtles. In 1975, Public Law 93-632 designated all islands in Key West NWR, except Ballast Key, which is privately owned, as a part of the National Wilderness Preservation System. These islands total 2,109 acres.

Great White Heron NWR

Great White Heron NWR was established in 1938, by Executive Order 7993 signed by President Roosevelt, as a haven for great white herons, migratory birds, and other wildlife. The refuge encompasses 117,683 acres of land and water with 6,300 acres of land, including 1,900 land acres which were designated Wilderness Areas in 1975, also under Public Law 93-632. While the islands are primarily mangroves, some of the larger islands contain pine rockland and tropical hardwood hammock habitats. This vast area, known locally as the “backcountry,” provides critical nesting, feeding, and resting areas for more than 250 species of birds. We co-manage this area with the State through a “Management Agreement for Submerged Lands Within the Boundaries of Key West and Great White Heron National Wildlife Refuges” (hereinafter referred to as Management Agreement).

Great white herons are a white color-phase of great blue herons. In the United States, nesting is restricted to extreme south Florida including the Florida Keys. The refuge was created to protect great white herons from extinction since the population was decimated by the demand for feathered hats. Protection of great white herons was successful, and these magnificent birds can be observed feeding on tidal flats throughout the refuge. The refuge islands are also used for nesting by 10 wading bird species, including the reddish egret, and by many neotropical migratory bird species.

National Key Deer Refuge

The National Key Deer Refuge was established on August 22, 1957, to protect and conserve Key deer and other wildlife resources. It comprises about 8,983 acres of land on several islands within the authorized approved acquisition boundary, as well as additional parcels located outside the boundary administered by the refuge. These lands host diverse habitats, most notably globally endangered tropical hardwood hammocks and pine rocklands. The refuge provides habitat for hundreds of endemic and migratory species, including 21 Federally listed species, such as Key deer, Lower Keys marsh rabbit, and silver rice rat. It contains a variety of plants endemic to the Florida Keys.

The refuge is an important stopping point for thousands of migrating birds each year and an important wintering ground for many North American bird species. Notable species include the piping plover and peregrine falcon. The mosaic of upland and wetland habitats found in the Florida Keys are critical breeding and feeding grounds for birds, and refuge land acquisition efforts strive to add to the lands already protected. Loggerhead, green, hawksbill, and Kemp's ridley sea turtles forage in the waters surrounding the refuge, but nesting is limited to refuge lands on Ohio Key, where a small number of loggerhead nests are laid annually. There are 2,278 acres of Wilderness Area designated on this refuge as of 1975 per Public Law 632.

Refuge Purposes

The purposes of the refuges come from the executive orders and subsequent laws Congress passed as it established each refuge. There are also specific purposes Congress designated for managing the Refuge System as a whole. Each of the three refuges has different enabling legislation and purposes. The CCP has been designed with consideration of the distinct purposes of each refuge. For the purposes of each refuge, refer to a notice in the Federal Register dated May 23, 2008 (73 FR 30139).

Alternatives, Including the Preferred Alternative

The Service developed three alternatives for managing the refuges over the next 15 years and chose Alternative B as the preferred alternative. A description of the three alternatives follows.

Alternative A—(Current Management—No Action)

The Lower Florida Keys Refuges have a high diversity of community types and endemic species, with many threatened, endangered, candidate, and other imperiled species. The primary mission of these refuges is to provide habitat for wildlife. The refuges currently have a small staff and funding source for the inventorying and monitoring of natural resources. Much effort has been put into some resources, such as Key deer and their habitat (pine rocklands), as a result of cooperative partnerships with academic and other research organizations. Certain species, such as great white herons, white-crowned pigeons, and sea turtles, have been studied over time by refuge biological staff. Under this alternative, these studies would continue.

Baseline data have yet to be established for some protected species, species suites, habitats, and cultural resources. The effects of natural catastrophic disturbances (e.g., Hurricane Wilma in 2005) on the refuges' resources have not been fully assessed and the effect of climate change (e.g., sea level rise) is not known.

We would protect threatened and endangered species through a variety of management tools, such as area closures, law enforcement, exotic plant control, etc. Working with partners, we would continue limited research and monitoring of focal species, such as Key deer, Lower Keys marsh rabbit, and some migratory birds. The National Key Deer Refuge's prescribed fire management program would continue with the objectives to reduce fuels and sustain the pine rockland ecosystem for the benefit of Key deer.

As funding and willing sellers are available, we would continue habitat conservation through land acquisition within the approved acquisition boundary and through lease agreements with other agencies for non-refuge lands that support the refuges' missions. Partnerships exist to promote land conservation. Exotic plant control to protect and maintain current habitat would occur at existing levels by relying on partnerships with the Nature Conservancy, the Florida Fish and Wildlife Conservation Commission, and Monroe County. A predator management program is currently under development on National Key Deer Refuge to reduce the effects of feral cat predation on the endangered Lower Keys marsh rabbit and other native wildlife.

Most ecologically sensitive areas and living resources are protected from disturbance or degradation through the use of closure areas, law enforcement, and the implementation of the Management Agreement. Impacts from concentrated, non-wildlife-dependent uses threaten a limited number of sites, particularly islands with accessible sand beaches. The effects of commercial activities and public uses (both wildlife-dependent and non-wildlife-dependent) have not been fully evaluated and visitor carrying capacities have not been quantified.

We have an active volunteer program to assist in all facets of refuge management. Partnerships for these purposes and for research are encouraged and maintained. Under this alternative, the existing level of administrative resources (e.g., staffing, facilities and assets, funding, and partnerships) would be maintained. This means some positions may not be filled when vacated if funds need to be reallocated to meet rising costs or new priorities.

Alternative B—(Preferred Alternative)

This alternative assumes a slow-to-moderate growth of refuge resources over the 15-year implementation period of the CCP. It proposes a proactive and adaptive ecosystem-management approach for the enhancement of wildlife populations. It will promote a natural diversity and abundance of habitats for native plants and animals, especially Keys' endemic, trust, and keystone imperiled species. Many of the objectives and strategies are designed to maintain and restore native communities. Active management strategies will be applied particularly within the globally imperiled pine rockland, salt marsh transition, and freshwater wetland habitats, and island beach berm communities. We will initiate research and long-term monitoring to expand the collection of baseline data and measure variables of ecosystem health. We will promote cooperative studies to monitor and model the immediate and/or long-term effects of natural catastrophic events (e.g., hurricanes, wildfire) and global climate change, particularly sea level rise.

Current ongoing and proposed programs and efforts focus on threatened, endangered, and candidate species of plants and animals. The need for more comprehensive inventorying and long-term monitoring is addressed in this alternative, particularly for priority imperiled species and their habitats within the refuges. The feasibility of managing the core population of Key deer to minimize the effects of over-browsing on native plants will be considered in accordance with the Endangered Species Act.

Habitat enhancement for critically imperiled species, such as the Lower Keys marsh rabbit and Key tree cactus, will occur to ensure the long-term sustainability of these species. Opportunities for land acquisition will focus more strategically on protecting environmentally sensitive habitat by contacting specific property owners to determine their willingness to sell, with a particular emphasis on enhancing habitat connectivity and protecting marsh rabbit habitat. Off-refuge nursery propagation of the Key tree cactus will be implemented for later translocation to suitable refuge habitats. Cooperative partnerships with nurseries and botanical gardens will be developed to secure seed and plant material of rare and endemic plant species to ensure genetically viable sources for future restoration needs. Research will be initiated to identify causal reasons for the marked, long-term decline in the great white heron nesting population and to evaluate the potential impacts of sea level rise on the ecology of wading birds.

Since a primary purpose of the refuges is to provide sanctuary for nesting and migratory birds, we will provide greater protection from human disturbance, particularly at colonial nesting bird rookeries and at beach habitats in the backcountry islands. Additional limitations to public use may be implemented in sensitive beach areas important for shorebirds, terns, sea turtles, and butterflies.

Strategies are proposed to enhance the biological diversity and resiliency of the fire-dependent pine rocklands and also to enhance fire-adapted habitat features in salt marsh transition and freshwater wetlands that benefit priority species in the National Key Deer Refuge. Prescribed fire and mechanical or manual vegetation treatments will be used as habitat management tools to reduce wildland fuels and restore desirable habitat features where appropriate. Predictive modeling and fire effects monitoring will be used on all prescribed-fire treatments in an adaptive management approach to develop site-specific burn prescriptions and to determine whether objectives were met. We will conduct research on fire behavior, fuel response, and fire history. The fire management step-down plan will be revised and implemented accordingly in conjunction with the development of a habitat management step-down plan.

We will continue exotic plant control as an ongoing operation within the refuges to maintain native habitats and prevent new infestations. Cooperative efforts will be sought with private property owners and homeowners associations to control seed sources from private lands. Existing partnerships will be reinforced to increase coordinated mapping and monitoring of treated areas with known infestations and ongoing control needs. Management of non-native exotic predators will be implemented as directed by the South Florida Multi-Species Recovery Plan for the benefit of threatened and endangered species. An early detection and rapid response program will be implemented in cooperation with Federal, State, and local authorities to address the increasing invasion by and potential establishment of exotic snakes, lizards, and other non-native animals in the Florida Keys.

A primary focus of the visitor services program, as proposed, is to enhance environmental education and outreach efforts substantially to reach larger numbers of residents, students, educators, and visitors. This alternative also focuses on increasing public awareness, understanding, and support for the refuges' conservation mission. It places priority on wildlife-dependent uses, such as photography and wildlife observation. A new visitor center on U.S. Highway 1 on Big Pine Key and enhanced visitor facilities at existing sites (e.g., Blue Hole and Watson-Mannillo Nature Trails) are proposed. Non-wildlife-dependent forms of recreation will be limited or restricted in sensitive areas and awareness efforts will be stepped-up to inform visitors about protecting wilderness areas. A Visitor Services step-down plan will specify program details consistent with the Service's visitor service program standards.

The basic administrative and operational needs of the refuges have been addressed. Essential new staffing is proposed through the addition and funding of five permanent, full-time employees. Daily operation of the refuges will be guided by the CCP and the development and implementation of 19 projects and 11 step-down management plans. Wilderness and cultural resource protection objectives and strategies will be incorporated within the appropriate step-down management plans. The modest growth in administrative resources will be used for wildlife monitoring and habitat enhancement to better serve the refuges' purposes and the CCP's vision. With the exception of a new Visitor Center that is proposed, the existing number of facilities will be maintained. Energy efficiency standards will be applied wherever feasible during facility maintenance, repair, or renovation projects. Existing vehicles will be replaced with alternative fuel vehicles to increase fuel efficiency and reduce carbon emissions.

Alternative C

This alternative assumes a moderate-to-substantial growth of refuge resources from internal or external sources. It would more fully realize the refuges' missions and address the large number of threatened, endangered, and candidate species along with other imperiled species and habitat types. While Alternative C contains many of the provisions to protect and restore habitats similar to Alternative B, it emphasizes a broader suite of priority species, assuming the addition of several new staff positions and increased funding. The long-term inventorying and monitoring plan would be expanded to cover more species and species suites. Additional studies on some species would be undertaken and additional biological staffing would be required. The use of captive, off-refuge sources of some species facing potential extirpation (e.g., Lower Keys marsh rabbit) would be explored for reintroduction after a natural catastrophe, such as a major hurricane. In certain habitats, some alternative habitat management techniques would be studied and applied. Fire management efforts would emphasize fire suppression and the reduction of hazardous fuels by mechanical or manual means to protect private properties, and the use of prescribed fire would be reduced or eliminated. Under this alternative, the CCP anticipates shifts in the Visitor Services program in order to increase visitation and public use. A refuge ranger position is proposed to coordinate and enhance volunteerism, to foster expanded relationships with the Friends and Volunteers of Refuges (FAVOR), and to establish new partnerships for environmental education and outreach programs.

Resource protection and visitor safety would be greatly enhanced through this alternative, with the addition of two law enforcement officers. This would allow for more patrol and enforcement of closures and sensitive areas protection, especially of wilderness areas or cultural resource sites. New areas of the backcountry would be closed to public access to protect wildlife resources. We would seek expanded management authority to regulate public and commercial activities in nearshore waters and submerged lands under the Management Agreement. A cultural resources field investigation and inventory would be conducted.

Implementation of Alternative C would also occur through the development of 11 step-down management plans. New staffing would be proposed through the addition of 6 permanent, full-time employees. The positions would be in addition to the 5 full-time positions proposed in Alternative B, for a total of 11 full-time positions in Alternative C. New maintenance and government housing facilities would be proposed along with new vehicles and boats to accommodate the staff increases. While Alternative C would promote our vision for these refuges, the resources available to implement it would not likely be forthcoming in the current economic environment as compared to when first proposed.

Background

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every15 years in accordance with the Administration Act.

Comments

Notices of availability of the Draft Comprehensive Conservation Plan and Environmental Assessment (Draft CCP/EA) were sent to 200 persons on the mailing list and copies were made available for a 30-day public review period as announced in the Federal Register on May 23, 2008 (73 FR 30139). At least 47 persons attended two public meetings held on the Draft CCP/EA during the open comment period. We received 25 comment letters by mail or e-mail from 16 persons and 11 non-governmental organizations. Comments were received from 4 government agencies and 1 Tribal government. The Draft CCP/EA was circulated through the Florida State Clearinghouse to 8 State, regional, and local governments.

Selected Alternative

After considering the comments we received, and based on the professional judgment of the planning team, we selected Alternative B to implement the CCP. It promotes the enhancement of wildlife populations by maintaining and enhancing a diversity and abundance of habitats for native plants and animals, especially imperiled species that are only found in the Florida Keys. Many of the objectives and strategies are designed to maintain and restore native plant communities and ensure the biological integrity across the landscape. Strategies are designed to restore and maintain the fire-dependent pine rocklands and to enhance habitat features of selected salt marsh transition and freshwater wetland communities that benefit priority species in the National Key Deer Refuge. Research and monitoring will provide essential information for implementing an adaptive management approach to strategic landscape conservation, providing flexibility in management strategies in order to incorporate new information and changing environmental conditions. The CCP also provides for obtaining baseline data and monitoring indicator species to detect changes in ecosystem diversity and integrity related to climate change.

Since a primary purpose of the refuges is to provide sanctuary for nesting and migratory birds, protection from human disturbance will be enhanced, particularly at colonial nesting bird rookeries and at beach habitats in the backcountry islands of the Key West and Great White Heron NWRs. Ongoing research to identify causal reasons for the marked, long-term decline in the great white heron nesting population, as well as studies on the impacts of sea level rise on wading birds, will be expanded.

A primary focus of the visitor services program is to enhance environmental education and outreach efforts through existing venues and expanded partnerships to reach a diversity of local residents, businesses, students, educators, and visitors. This plan focuses on increasing public awareness, understanding, and support for the refuges' conservation mission. It places priority on wildlife-dependent recreational uses, such as wildlife observation and photography. Non-wildlife dependent forms of recreation, such as beach picnicking and sunbathing, will be limited or restricted in sensitive areas. Awareness efforts will be expanded to inform visitors about protecting wilderness values.

The compatibility determinations for (1) Environmental education and interpretation; (2) hiking/daypacking, jogging, and walking (National Key Deer Refuge only); (3) bicycling (National Key Deer Refuge only); (4) wildlife observation and photography; (5) fishing; (6) beach use (National Key Deer Refuge only); (7) public use on wilderness and backcountry islands; (8) research and monitoring; (9) mosquito management (National Key Deer Refuge and Great White Heron NWR only); and (10) horseback riding (National Key Deer Refuge only) are available in Appendix F of the CCP.

Authority

This notice is published under the authority of the National Wildlife Refuge System Improvement Act of 1997, Public Law 105-57.

Dated: August 24, 2009.
Patrick Leonard,
Acting Regional Director.

[FR Doc. 2010-447 Filed 1-12-10; 8:45 am]

BILLING CODE 4310-55-P